DEPARTMENT OF LABOR

Employment and Training Administration

[TA-W-53,901]

Delaine Worsted Mills, Inc., Gastonia, NC; Dismissal of Application for Reconsideration

Pursuant to 29 CFR 90.18(c) an application for administrative reconsideration was filed with the Director of the Division of Trade Adjustment Assistance for workers at Delaine Worsted Mills, Inc., Gastonia, North Carolina. The application contained no new substantial information which would bear importantly on the Department's determination. Therefore, dismissal of the application was issued.

TA-W-53,901; Delaine Worsted Mills, Inc., Gastonia, North Carolina (April 28, 2004)

Signed in Washington, DC this 3rd day of May 2004.
Timothy Sullivan,
Director, Division of Trade Adjustment Assistance.

[FR Doc. E4-1066 Filed 5-10-04; 8:45 am]

BILLING CODE 4510-13-P